ENVIRONMENTAL PROTECTION AGENCY

[FRL-6893-8]

Agency Information Collection Activities; Toxic Chemical Release Reporting; Submission of EPA ICR No. 1704.05 to OMB

AGENCY: Environmental Protection Agency (EPA).

ACTION: Notice of submission to OMB.

SUMMARY: In compliance with the Paperwork Reduction Act (44 U.S.C. 3501 et seq.), this document announces that EPA is planning to submit the following continuing Information Collection Request (ICR) entitled: “Alternate Threshold for Low Annual Reportable Amounts; Toxic Chemical Release Reporting,” (EPA ICR No. 1704.05; OMB Control No. 2070-0143) to the Office of Management and Budget (OMB) pursuant to the procedures described in 5 CFR 1320.12. The ICR, which is abstracted below, describes the nature of the information collection and its estimated cost and burden. The Agency is requesting that OMB renew for 3 years the existing approval for this ICR, which is scheduled to expire on February 28, 2001. A Federal Register notice announcing the Agency's intent to seek the renewal of this ICR and the 60-day public comment opportunity, requesting comments on the request and the contents of the ICR, was issued on July 6, 2000 (65 FR 41653). EPA received comments on this ICR which have been addressed.

DATES: Additional comments may be submitted on or before December 1, 2000.

FOR FURTHER INFORMATION CONTACT: Sandy Farmer at EPA by phone on (202) 260-2740, by e-mail: “farmer.sandy@epa.gov,” or download off the Internet at http://www.epa.gov/icr/icr.htm and refer to EPA ICR No. 1704.05.

ADDRESSES: Send comments, referencing EPA ICR No. 1704.05 and OMB Control No. 2070-0143, to the following addresses: Ms. Sandy Farmer, Office of Environmental Information (2822), U.S. Environmental Protection Agency, 1200 Pennsylvania Ave., NW, Washington, DC 20460; and to Office of Information and Regulatory Affairs, Office of Management and Budget (OMB), Attention: Desk Officer for EPA, 725 17th Street, NW, Washington, DC 20503.

SUPPLEMENTARY INFORMATION: Review Requested: This is a request to renew a currently approved information collection.

Title: Alternate Threshold for Low Annual Reportable Amounts; Toxic Chemical Release Reporting.

Abstract: EPCRA section 313 requires certain facilities manufacturing, processing, or otherwise using certain toxic chemicals in excess of specified threshold quantities to report their environmental releases of such chemicals annually. Each such facility must file a separate report for each such chemical.

In accordance with the authority in EPCRA, EPA has established an alternate threshold for those facilities with low amounts of a listed toxic chemical in wastes. A facility that meets the current reporting thresholds but estimates that the total amount of the chemical in total waste does not exceed 500 pounds per year, and that the chemical was manufactured, processed, or otherwise used in an amount not exceeding 1 million pounds during the reporting year, can take advantage of reporting under the alternate threshold option for that chemical for that reporting year.

Each qualifying facility that chooses to apply the revised threshold must file the Form A (EPA Form 9350-2) in lieu of a complete TRI reporting Form R (EPA Form 9350-1). In submitting the Form A, the facility certifies that the sum of the amount of the EPCRA section 313 chemical in wastes did not exceed 500 pounds for the reporting year, and that the chemical was manufactured, processed, or otherwise used in an amount not exceeding 1 million pounds during the reporting year. Use of the Form A in place of the Form R represents a substantial savings to respondents, both in burden hours and in labor costs.

The primary function served by the submission of the Form A is to satisfy the statutory requirement to maintain reporting on a substantial majority of releases for all listed chemicals. Without the Form A, users of TRI data would not have access to any information on these chemicals. The Form A also serves as a de facto range report, which is useful to any party interested in amounts being handled at a particular facility or for broader statistical purposes. Additionally, the Form A provides compliance monitoring and enforcement programs and other interested parties with a means to track chemical management activities and verify overall compliance with the rule. Responses to this collection of information are mandatory (see 40 CFR part 372) and facilities subject to reporting must either submit a Form A or a Form R.

Burden Statement: The annual public burden for this collection of information, which is approved under OMB Control No. 2070-0143, is estimated to average 34.6 hours per each form, for a facility which certifies one chemical per form A. For facilities which choose to certify two chemicals per form A, the estimated burden is 67.8 hours per form. Responding to this information collection requires: (1) Determining whether a listed toxic chemical is eligible for certification under the alternate threshold, and (2) completing the Form A. The burden of determining eligibility for certification is estimated to average 33.2 hours for each chemical that is certified. The burden of completing the Form A is estimated to average 1.4 hours, regardless of the number of chemicals being certified. The total burden per response is the combination of these two, and will vary depending on the number of listed toxic chemicals being certified.

EPA estimates that as many as 7,397 respondents may submit a Form A with these responses containing a total of 14,793 certifications. Total respondent burden and cost for completing those Form As are estimated at approximately 582,000 burden hours and $52 million per year. (The alternate threshold may save reporting facilities up to 189,000 hours, with a dollar value of $11 million, compared to the cost of reporting on Form R.) The estimated burden in this supporting statement differs from what is currently in OMB's inventory for alternate threshold reporting (13,157 respondents, 9,072 responses, and 646,875 burden hours) as a result of both an adjustment and a program change. The adjustment was made by calculating the number of eligible respondents and responses from the manufacturing sector based on TRI data from the 1998 reporting year (the most recent TRI data available). This adjustment reduced reporting burden by 62,772 hours. The program change was made by excluding the reporting of PBT chemicals on Form A. This change reduces the burden associated with this collection. The portion of the change due to this regulatory change decreases burden by 2,114 hrs.

Estimated No. of Respondents: 7,397 respondents.

Estimated Total Annual Burden on Respondents: 582,000 burden hours.

Frequency of Collection: Annual.

Dated: October 23, 2000.
Oscar Morales,
Director, Collection Strategies Division.

[FR Doc. 00-28014 Filed 10-31-00; 8:45 am]

BILLING CODE 6560-50-P